SURFACE TRANSPORTATION BOARD

Senior Executive Service Performance Review Board (PRB) and Executive Resources Board (ERB) Membership

AGENCY: Surface Transportation Board.

ACTION: Notice of Senior Executive Service Performance Review Board (PRB) and Executive Resources Board (ERB) Membership.

SUMMARY: Effective immediately, the membership of the PRB and ERB is as follows:

Performance Review Board

William Brennan, Chairman

Rachel D. Campbell, Member

Lucille Marvin, Member

Craig M. Keats, Alternate Member

Executive Resources Board

Allison Davis, Chairman

Rachel Campbell, Member

Lucille Marvin, Member

Craig M. Keats, Alternate Member

FOR FURTHER INFORMATION CONTACT: If you have any questions, please contact: Teresa Schlee at teresa.schlee@stb.gov or 202-245-0340.

Kenyatta Clay,
Clearance Clerk.

[FR Doc. 2020-14539 Filed 7-6-20; 8:45 am]

BILLING CODE 4915-01-P